ENVIRONMENTAL PROTECTION AGENCY

[ER-FRL-9040-6]

Environmental Impact Statements; Notice of Availability

Responsible Agency:Office of Federal Activities, General Information (202) 564-7156 or https://www2.epa.gov/nepa/.

Weekly receipt of Environmental Impact Statements

Filed 07/23/2018 Through 07/27/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180170, Final, BLM, NV, Greater Phoenix Project, Review Period Ends: 09/04/2018,Contact: Christine Gabriel 775-635-4000

EIS No. 20180171, Draft, USFS, AK, Chugach National Forest Land Management Plan Draft Environmental Impact Statement, Comment Period Ends: 11/01/2018, Contact: Denise Downie 907-743-9426

EIS No. 20180172, Draft, NPS, TN, Contaminated Mine Drainage Mitigation and Treatment Programmatic/Site Specific Draft EIS, Comment Period Ends: 09/17/2018, Contact: Michael B. Edwards 303-969-2694

EIS No. 20180173, Draft, FHWA, SC, Carolina Crossroads I-20/26/126 Corridor Project, Comment Period Ends: 09/17/2018, Contact: J. Shane Belcher 803-253-3187

EIS No. 20180174, Draft, NPS, FL, Gulf Islands National Seashore Personal Watercraft Plan, Comment Period Ends: 09/17/2018, Contact: Dan Brown 850-934-2613

EIS No. 20180175, Final, FERC, CA, Lassen Lodge Final Environmental Impact Statement, Review Period Ends: 09/04/2018, Contact: Kenneth Hogan 202-502-8434

EIS No. 20180176, Draft, BLM, NM, Carlsbad Draft Resource Management Plan and Environmental Impact Statement, Comment Period Ends: 11/05/2018, Contact: Hector Gonzales 575-234-5968

Amended Notice

Revision to the Federal Register Notice published 07/20/2018, extend comment period from 08/20/2018 to 08/27/2018, EIS No. 20180164, Final, USFS, CA, Exchequer Restoration Project, Contact: Elaine Locke 559-885-5355.

Dated: July 30, 2018.
Kelly Knight,
Acting Director, Office of Federal Activities.

[FR Doc. 2018-16572 Filed 8-2-18; 8:45 am]

BILLING CODE 6560-50-P